DEPARTMENT OF DEFENSE

Office of the Secretary

[DOD-2006-OS-0225]

Privacy Act of 1974; System of Records

AGENCY: Office of the Secretary, DoD.

ACTION: Notice to delete systems of records.

SUMMARY: The Office of the Secretary of Defense is deleting a system of records notice from its existing inventory of records systems subject to the Privacy Act of 1974, (5 U.S.C. 552a), as amended.

DATES: December 29, 2006.

ADDRESSES: OSD Privacy Act Coordinator, Records Management Section, Washington Headquarters Services, 1155 Defense Pentagon, Washington, DC 20301-1155.

FOR FURTHER INFORMATION CONTACT: Ms. Juanita Irvin at (703) 696-4940.

SUPPLEMENTARY INFORMATION: The Office of the Secretary of Defense systems of records notices subject tot he Privacy Act of 1974, (5 U.S.C. 552a), as amended, have been published in the Federal Register and are available from the address above.

The specific changes to the records system being amended are set forth below followed by the notice, as amended, published in its entirety. The proposed amendments are not within the purview of subsection (r) of the Privacy Act of 1974, (5 U.S.C. 552a), as amended, which requires the submission of a new or altered system report.

Dated: December 22, 2006.
L.M. Bynum,
Alternate OSD Federal Register Liaison Officer, Department of Defense.

DODDS 22

System name:

DOD Dependent Children's School Program Files (June 12, 1997, 62 FR 32089).

Reason:

The system of records is maintained under the Office of the Secretary notice DODEA 26, entitled, Department of Defense Education Activity Dependent Children's School Program Files (November 1, 2006, 71 FR 64247).

[FR Doc. 06-9928 Filed 12-28-06; 8:45 am]

BILLING CODE 5001-06-M